DEPARTMENT OF COMMERCE

National Oceanic and Atmospheric Administration

[I.D. 080902C]

Marine Mammals; File No. 1007-1629

AGENCY: National Marine Fisheries Service (NMFS), National Oceanic and Atmospheric Administration (NOAA), Commerce.

ACTION: Issuance of permit amendment.

SUMMARY: Notice is hereby given that Leszek Karczmarski, Ph.D., Marine Mammal Research Program, Texas A&M University, 4700 Avenue U, Building 303, Galveston, Texas 77551 has been issued an amendment to scientific research Permit No. 1007-1629-00.

ADDRESSES: The amendment and related documents are available for review upon written request or by appointment in the following office(s):

Permits, Conservation and Education Division, Office of Protected Resources, NOAA Fisheries, 1315 East-West Highway, Room 13705, Silver Spring, MD 20910; phone (301)713-2289; fax (301)713-0376; and

Protected Species Coordinator, Pacific Area Office, NOAA Fisheries, 1601 Kapiolani Blvd., Room 1110, Honolulu, HI 96814-4700; phone (808)973-2935; fax (808)973-2941.

FOR FURTHER INFORMATION CONTACT: Jill Lewandowski or Trevor Spradlin, (301)713-2289.

SUPPLEMENTARY INFORMATION: On June 28, 2002, notice was published in the Federal Register (67 FR 43586) that an amendment of Permit No. 1007-1629-00, issued August 13, 2001 (66 FR 42523), had been requested by the above-named individual. The requested amendment has been granted under the authority of the Marine Mammal Protection Act of 1972, as amended (16 U.S.C. 1361 et seq.), and the Regulations Governing the Taking and Importing of Marine Mammals (50 CFR part 216).

Permit No. 1007-1629-01 now authorizes the take of 5,000 individual Hawaiian spinner dolphins (Stenella longirostris) annually by behavioral observation and photo-identification, 600 individuals annually through genetic sampling, and an unlimited number of individuals by close approach incidental to research activities. The purpose of the research is to compare population structure, genetic flow and social behavior between groups of Hawaiian spinner dolphins. The amended permit expands the geographic area of study to include vessel-based research in all the Northwestern and Main Hawaiian Islands.

Dated: August 19, 2002.
Eugene T. Nitta,
Acting Chief, Permits, Conservation and Education Division, Office of Protected Resources, National Marine Fisheries Service.

[FR Doc. 02-21592 Filed 8-22-02; 8:45 am]

BILLING CODE 3510-22-S